DEPARTMENT OF LABOR

Employment and Training Administration

[TA-W-53,706]

Philips Electronics, Advanced Transformer Division, Chicago, IL; Notice of Termination of Investigation

Pursuant to section 221 of the Trade Act of 1974, as amended, an investigation was initiated on December 4, 2003 in response to a worker petition filed on behalf of workers at Philips Electronics, Advanced Transformers Division, Chicago, Illinois.

The petitioning group of workers is covered by an active certification issued on December 5, 2003 and which remains in effect (TA-W-53,614). Consequently, further investigation in this case would serve no purpose, and the investigation has been terminated.

Signed at Washington, DC, this 15th day of December 2003.
Linda G. Poole,
Certifying Officer, Division of Trade Adjustment Assistance.

[FR Doc. 04-646 Filed 1-12-04; 8:45 am]

BILLING CODE 4510-30-P